FEDERAL COMMUNICATIONS COMMISSION

[Report No. 2586]

Petitions for Reconsideration and Clarification of Action in Rulemaking Proceedings

December 3, 2002.

Petitions for Reconsideration and Clarification have been filed in the Commission's rulemaking proceedings listed in this Public Notice and published pursuant to 47 CFR 1.429(e). The full text of these documents are available for viewing and copying in Room CY-A257, 445 12th Street, S.W., Washington, DC (202) 863-2893. Oppositions to these petitions must be filed by December 25, 2002. See section 1.4(b)(1) of the commission's rules (47 CFR 1.4(b)(1)). Replies to an opposition must be filed within 10 days after the time for filing oppositions has expired.

Subject: Implementation of the Telecommunications Act of 1996:

Telecommunications Carriers' Use of Customer Proprietary Network Information and Other Customer Information (CC Docket No. 96-115).

Implementation of the Non-Accounting Safeguards of Sections 271 and 272 of the Communications Act of 1934, As Amended (CC Docket No. 96-149).

In the Matter of 2000 Biennial Regulatory Review—Review of Policies and Rules Concerning Unauthorized Changes of Consumers Long Distance Carriers (CC Docket No. 00-257).

Number of Petitions Filed: 4.

Marlene H. Dortch,
Secretary.

[FR Doc. 02-31385 Filed 12-11-02; 8:45 am]

BILLING CODE 6712-01-M